DEPARTMENT OF HEALTH AND HUMAN SERVICES

Food and Drug Administration

21 CFR Part 500

[Docket No. 01N-0284]

Import Tolerances; Extension of Comment Period; Correction

AGENCY: Food and Drug Administration, HHS.

ACTION: Advance notice of proposed rulemaking; extension of comment period; correction.

SUMMARY: The Food and Drug Administration (FDA) is correcting an extension of comment period for an advance notice of proposed rulemaking (ANPRM) that appeared in the Federal Register of December 7, 2001 (66 FR 63519). The document gave notice that FDA is extending the comment period for the ANPRM that appeared in the Federal Register of August 10, 2001 (66 FR 42167), concerning regulation for establishing import drug residue tolerances for imported food products of animal origin for drugs that are used in other countries, but that are unapproved new animal drugs in the United States. The document was published with an inadvertent error. This document corrects that error.

DATES: The extension of the comment period to March 11, 2002, and this correction were effective on December 7, 2001.

FOR FURTHER INFORMATION CONTACT: Doris B. Tucker, Office of Policy, Planning, and Legislation (HF-27), Food and Drug Administration, 5600 Fishers Lane, Rockville, MD 20857, 301-827-7010.

SUPPLEMENTARY INFORMATION: In FR Doc. 01-30331, appearing on page 63519 in the Federal Register of December 7, 2001, the following correction is made:

1. On page 63519, in the second column under the heading ADDRESSES, the mail code for the Dockets Management Branch is corrected to read “HFA-305.”

Dated: December 19, 2001.
Margaret M. Dotzel,
Associate Commissioner for Policy.

[FR Doc. 01-31877 Filed 12-27-01; 8:45 am]

BILLING CODE 4160-01-S